DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 79 FR 26258-26259 dated May 7, 2014).

This notice reflects organizational changes in the Health Resources and Services Administration. Specifically, this notice: (1) Establishes the Bureau of Health Workforce (RQ); (2) transfers all functions from the Bureau of Clinician Recruitment and Service (RU) to the newly established Bureau of Health Workforce (RQ); (3) abolishes the Bureau of Clinician Recruitment and Service (RU); (4) transfers all functions from the Bureau of Health Professions (RP) to the newly established Bureau of Health Workforce (RQ); (5) abolishes the Bureau of Health Professions (RP); (6) transfers the Nursing Education Partnership Initiative and Medical Education Partnership Initiative function from the HIV/AIDS Bureau, Office of the Associate Administrator (RV) to the newly established Bureau of Health Workforce (RQ), and; (7) updates the functional statement for the HIV/AIDS Bureau (RV).

Chapter RQ, Bureau of Health Workforce (RQ)

Section RQ, OO Mission

The Bureau of Health Workforce (BHW) improves the health of the nation's underserved communities and vulnerable populations by developing, implementing, evaluating, and refining programs that strengthen the nation's health care workforce. BHW programs holistically support a diverse, culturally competent workforce by addressing components including: Education and training; recruitment and retention; financial support for students, faculty, and practitioners, supporting institutions; data analysis, and evaluation and coordination of global health workforce activities. These efforts support development of a skilled health workforce serving in areas of the nation with the greatest need.

Section RQ-10, Organization

Delete the organization for the Bureau of Clinician Recruitment and Service (RU) and the Bureau of Health Professions (RP) in their entirety and replace with the following: The Bureau of Health Workforce (RQ) is headed by the Associate Administrator, who reports directly to the Administrator, Health Resources Services Administration. The Bureau of Health Workforce (RQ) includes the following components:

(1) Office of the Associate Administrator (RQ);

(2) Division of Policy and Shortage Designation (RQ1);

(3) Division of Business Operations (RQ2);

(4) Division of External Affairs (RQ3);

(5) Office of Workforce Development and Analysis (RQA);

(6) Office of Global Health Affairs (RQA1);

(7) Division of Global Training and Development (RQA11);

(8) National Center for Health Workforce Analysis (RQA2);

(9) Division of Medicine and Dentistry (RQA3);

(10) Division of Nursing and Public Health (RQA4);

(11) Division of Practitioner Data Bank (RQA5);

(12) Office of Health Careers (RQB);

(13) Division of Participant Support and Compliance (RQB1);

(14) Division of Health Careers and Financial Support (RQB2);

(15) Division of National Health Service Corps (RQB3); and

(16) Division of Regional Operations (RQB4).

Section RQ-20, Functions

(1) Establish the functional statement for the Bureau of Health Workforce (RQ); (2) delete the functional statement for the Bureau of Clinician and Recruitment and Service (RU) in its entirety and transfer the functions to the newly established Bureau of Health Workforce (RQ); (3) delete the functional statement for the Bureau of Health Professions (RP) in its entirety and transfer the functions to the newly established Bureau of Health Workforce (RQ); (4) transfer the Nursing Education Partnership Initiative (NEPI) and Medical Education Partnership Initiative (MEPI) function from the HIV/AIDS Bureau (RV) to the newly established Bureau of Health Workforce (RQ), and; (5) update the functional statement for the HIV/AIDS Bureau (RV).

Office of the Associate Administrator (RQ)

The Office of the Associate Administrator provides overall leadership, direction, coordination, and planning in support of the BHW's programs designed to help meet the health professions workforce needs of the nation and improve the health of the nation's underserved communities and vulnerable populations. The office guides and directs the bureau's workforce analysis efforts and provides guidance and support for advisory councils. Additionally, the office provides direction by coordinating the recruitment, education, training, and retention of diverse health professionals in the healthcare system and supporting communities' efforts to build more integrated and sustainable systems of care. Specifically: (1) Directs and provides policy guidance for workforce recruitment, student and faculty assistance, training, and placement of health professionals to serve in underserved areas; (2) leads workforce analysis efforts; (3) guides and supports work of advisory councils; (4) provides leadership, and guides bureau programs in recruiting and retaining a diverse workforce; (5) establishes program goals, objectives, and priorities, and provides oversight as to their execution; (6) maintains effective relationships within HRSA and with other federal and nonfederal agencies, state, and local governments, and other public and private organizations concerned with health workforce development and improving access to health care for the nation's underserved; (7) plans, directs, coordinates, and evaluates bureau-wide management activities, i.e., budget, personnel, procurements, delegations of authority, and responsibilities related to the awarding of the BHW funds, and; (8) coordinates, reviews, and provides clearance of correspondence and official documents entering and leaving the bureau.

Executive Office (RQ)

The Executive Office collaborates with the BHW leadership to plan, coordinate, and direct bureau-wide administrative management activities. Specifically: (1) Executes the bureau's budget; (2) provides human resource services regarding all aspects of personnel management, workforce planning, and the allocation and utilization of personnel resources; (3) coordinates the business management functions for the bureau's grants programs; (4) plans, directs, and coordinates bureau-wide administrative management activities, i.e., budget, personnel, procurements, delegations of authority, and responsibilities related to the awarding of the BHW funds; (5) provides additional support services including the acquisition, management, and maintenance of supplies, equipment, space, training, and travel, and; (6) assumes special projects or takes the lead on certain issues as tasked by the bureau's leadership.

Division of Policy and Shortage Designation (RQ1)

The Division of Policy and Shortage Designation serves as the focal point for the development of the BHW programs and policies. Specifically: (1) Leads and coordinates the analysis, development, and drafting of policies impacting bureau programs; (2) coordinates program planning, and tracking of legislation and other information related to BHW's programs; (3) directly supports national efforts to analyze and address equitable distribution of health professionals for access to health care for underserved populations; (4) recommends health professional shortage areas and medically-underserved areas and populations; (5) approves designation requests and finalizes designation policies and procedures for both current and proposed designation criteria; (6) negotiates and approves state designation agreements; (7) oversees grants to state primary care offices and conducts all business management aspects of the review, negotiation, award, and administration of these grants; (8) provides oversight, processing, and coordination for the J1-visa program; (9) works collaboratively with other components within HRSA and HHS, and with other federal agencies, state, and local governments, and other public and private organizations on issues affecting the BHW's programs and policies; (10) performs environmental scanning on issues that affect the BHW's programs and assesses the impact of programs on underserved communities; (11) monitors BHW's activities in relation to HRSA's strategic plan; (12) develops budget projections and justifications, and; (13) serves as the bureau's focal point for program information.

Division of Business Operations (RQ2)

The Division of Business Operations serves as the focal point for the bureau's data management systems, reports, data analysis, and automation of business processes to support the administration of the BHW programs. Specifically: (1) Provides leadership for implementing the BHW's systems development, enhancement, and administration; (2) designs and implements data systems to assess and improve program performance; (3) provides user support and training to facilitate the effectiveness of the bureau's information systems and deliver excellent customer service to internal and external stake holders, and; (4) ensures that data management systems and other tools continue to evolve to support changes to program policy, process, and data throughout the bureau.

Division of External Affairs (RQ3)

The Division of External Affairs provides communication and public affairs expertise to the bureau and serves as the focal point for the development of all external messaging and dissemination of public information, promotional materials, brochures, speeches, and articles, in consultation with HRSA's Office of Communications. Specifically the division: (1) Leads, coordinates, and conducts outreach and engagement strategies for various audiences including students, clinicians, health care sites, and critical shortage facilities, as well as workforce grantees and applicants; (2) coordinates and conducts all bureau webinars and trainings for clinicians, grantees, sites, and applicants; (3) establishes and manages partner collaborations with national organizations, as well as National Health Service Corps (NHSC) Ambassadors and Alumni; (4) performs marketplace analysis to better understand information needs of various audiences; (5) coordinates requests for bureau speakers, and develops and implements communication initiatives on the bureau's programs; (6) oversees and coordinates the bureau's committee management activities; (7) coordinates, researches, writes, and prepares speeches and audiovisual presentations for the Associate Administrator and leadership, and; (8) maintains responsibility for all communication functions including, but not limited to, the bureau's Web site, external newsletters, social media, and response to media inquiries.

Office of Workforce Development and Analysis (RQA)

The Office of Workforce Development and Analysis (OWDA) serves as the focal point for health workforce analysis and data collection, and the coordination, direction, and oversight of the BHW's programs that provide grants to institutions and organizations in support of the recruitment, education, training, and retention of a diverse, culturally competent health care workforce that increases access to care for the nation's vulnerable and underserved populations. Specifically: (1) Directs policy guidance for the bureau's grants to institutions and organizations for the recruitment, retention, and training of a diverse health professions workforce and faculty; (2) directs the bureau's health professions workforce data collection and analysis efforts in support of the BHW's programs, and provides oversight for the evaluation of grantee performance and program outcomes; (3) establishes program goals, objectives, and priorities and provides oversight to their execution; (4) maintains effective relationships within HRSA and with other federal and non-federal partners concerned with health workforce development and improving access to health care for the nation's underserved; (5) plans, directs, coordinates, and evaluates office-wide management activities, i.e., budget, personnel, procurements, and awarding of funds; (6) coordinates, reviews, and provides clearance of correspondence and official documents entering and leaving the office; (7) guides and supports work of advisory councils, and; (8) represents the bureau, agency, and federal government, as designated, on national committees maintaining effective relationships within HRSA and with other federal and non-federal agencies, state and local governments, and other public and private organizations concerned with health personnel development, and improving access to health care for the nation's underserved.

Office of Global Health Affairs (RQA1)

The Office of Global Health Affairs serves as the principal advisor to the Office of Workforce Development and Analysis Director and the Associate Administrator on global health issues. Specifically: (1) Provides leadership, coordination, and advancement of global health activities relating to health care services for vulnerable and at-risk populations and for HRSA training programs; (2) provides support for the agency's International Visitors Program; (3) provides management and oversight of international programs aimed at improving quality and innovation in health professions education, retention, training, faculty development and applied research systems; (3) provides leadership within HRSA for the support of global health and coordinates policy development with the HHS Office of Global Health Affairs and other departmental agencies, and; (4) supports and conducts programs with respect to activities associated with the international migration, domestic training, and utilization of foreign medical graduates and U.S. citizens studying abroad.

Division of Global Training and Development (RQA11)

The Division of Global Training and Development is responsible for developing policy recommendations and implementing international programs to improve targeted health professions, education, and training; promote retention; and develop faculty and applied research systems. The division oversees grants and cooperative agreements for international workforce development efforts and is responsible for monitoring progress, performance, and compliance with established policies and procedures.

National Center for Health Workforce Analysis (RQA2)

The National Center for Health Workforce Analysis is the focal point for the coordination and management of the bureau's health professions workforce data collection, analysis, and evaluation efforts. The National Center for Health Workforce Analysis leads and monitors the development of workforce projections relating to the BHW programs and acts as a national resource for such information and data.

Division of Medicine and Dentistry (RQA3)

The Division of Medicine and Dentistry serves as the bureau's lead for the program administration and oversight of medical and dental programs. Specifically: (1) Administers grants to educational institutions and other eligible organizations for the development, improvement, and operation of educational programs for primary care physicians (pre-doctoral, residency), physician assistants, dentists and dental hygienists, including support for community-based training and funding for faculty development to teach in primary care specialties training; (2) provides technical assistance and consultation to grantee institutions and other governmental and private organizations on the operation of these educational programs; (3) evaluates programmatic data and promotes the dissemination and application of findings arising from supported programs; (4) collaborates within the bureau to identify and support analytical studies to determine the present and future supply and requirements of physicians, dentists, dental hygienists, and physician assistants by specialty, geographic location, and for state planning efforts; (5) encourages community-based training opportunities for primary care providers, particularly in underserved areas; (6) provides leadership and staff support for the Advisory Committee on Training in Primary Care Medicine and Dentistry; Advisory Committee on Interdisciplinary Community-Based Linkages, and for the Council on Graduate Medical Education, and; (7) represents the bureau, agency, and federal government, as designated, on national committees maintaining effective relationships within HRSA and with other federal and non-federal agencies, state and local governments, and other public and private organizations concerned with health personnel development and improving access to health care for the nation's underserved.

Division of Nursing and Public Health (RQA4)

The Division of Nursing and Public Health serves as the bureau's lead for the administration and oversight of nursing, behavioral and public health programs. Specifically: (1) Administers grants and provides technical assistance to educational institutions and other eligible entities in support of nursing education, practice, retention, diversity, and faculty development; (2) administers grants and provides technical assistance to educational institutions and other eligible entities in support of behavioral and public health education and practice; (3) addresses nursing workforce shortages through projects that focus on expanding enrollment in baccalaureate programs, and develops internships, residency programs, and other training mechanisms to improve the preparation of nurses, and behavioral and public health professionals, providing care for underserved populations; (4) collaborates within the bureau to identify and support analytical studies to determine the present and future supply and requirements for nurses, and behavioral and public health professionals; (5) evaluates programmatic data and promotes the dissemination and application of findings arising from supported programs; (6) provides staff support, and the Director, on behalf of the Secretary, serves as the Chair of the National Advisory Council on Nurse Education and Practice, and; (7) represents the bureau, agency, and federal government, as designated, on national committees maintaining effective relationships within HRSA and with other federal and non-federal agencies, state and local governments, and other public and private organizations concerned with health personnel development, and improving access to health care for the nation's underserved.

Division of Practitioner Data Bank (RQA5)

The Division of Practitioner Data Bank coordinates with the department and other federal entities, state licensing boards, national, state, and local professional organizations, to promote quality assurance efforts and deter fraud and abuse by administering the National Practitioner Data Bank (NPDB). Specifically, the division: (1) Monitors adverse licensure information on all licensed health care practitioners and health care entities; (2) develops, proposes, and monitors efforts for (a) credential assessment, granting of privileges, monitoring and evaluating programs for physicians, dentists, other health care professionals, (b) professional peer review to promote an evaluation of the competence, professional conduct, or the quality and appropriateness of patient care provided by health care practitioners, and (c) risk management and utilization reviews; (3) encourages and supports evaluation and demonstration projects and research using NPDB data on medical malpractice payments and adverse actions taken against practitioners' licenses, clinical privileges, professional society memberships, and eligibility to participate in Medicare/Medicaid; (4) ensures integrity of data collection, follows all disclosure procedures without fail; (5) conducts and supports research based on the NPDB data; (6) maintains active consultative relations with professional organizations, societies, and federal agencies involved with the NPDB; (7) works with the Secretary's office to provide technical assistance to states undertaking malpractice reform, and; (8) maintains effective relations with the Office of the General Counsel, the Office of the Inspector General, and HHS concerning practitioner licensing and data bank issues.

Office of Health Careers (RQB)

The Office of Health Careers is the focal point for the coordination, direction, and oversight of BHW's loan repayment, loan, scholarship, and health careers pipeline programs that provide direct financial support to individuals and grantee institutions in support of the bureau's goals of recruiting and retaining a diverse and culturally competent health care workforce to serve underserved communities and vulnerable populations. Specifically: (1) Directs policy guidance for BHW loan repayment, loan, scholarship, and pipeline programs to eligible students, health professionals, faculty, and grantee institutions; (2) establishes program goals, objectives, and priorities and provides oversight to their execution; (3) maintains effective relationships within HRSA and with other federal and non-federal partners concerned with health workforce development and improving access to health care for the nation's underserved; (4) plans, directs, coordinates, and evaluates office-wide management activities, i.e., budget, personnel, procurements, and awarding of funds; (5) coordinates, reviews, and provides clearance of correspondence and official documents entering and leaving the office; (6) guides and supports work of advisory councils, and; (7) represents the bureau, agency, and federal government, as designated, on national committees maintaining effective relationships within HRSA and with other federal and non-federal agencies, state and local governments, and other public and private organizations concerned with health personnel development and improving access to health care for the nation's underserved.

Division of Participant Support and Compliance (RQB1)

The Division of Participant Support and Compliance serves as the organizational focal point for the bureau's centralized, comprehensive customer service function to support individual program participants. Provides regular and ongoing communication, technical assistance, and support to program participants through the period of obligated service and closeout. Specifically: (1) Manages the staff and daily operations of the bureau's centralized customer service function; (2) initiates contact with and monitors program participants throughout their service; (3) manages clinician support, site transfers, in-service reviews; (4) provides oversight and approval of the default, suspension, and waiver processes; (5) oversees the approval process and response for exception requests, congressional inquiries, contract terminations, and voids; (6) manages the six-month verification process; (7) conducts closeout activities for each program participant and issues completion certificates; (8) manages the monthly payroll for NURSE Corps Loan Repayment Program participants, and; (9) maintains program participants' case files in the bureau's management information system.

Division of Health Careers and Financial Support (RQB2)

The Division of Health Careers and Financial Support serves as the point of contact for responding to inquiries; disseminating program information; providing technical assistance; administering grants, and; processing applications and awards pertaining to health workforce scholarship, loan, loan repayment, and pipeline development programs. Specifically: (1) Reviews, ranks, and selects participants and grantees for NURSE Corps, Faculty Loan Repayment Program, Native Hawaiian Health Scholarship Program, and other discretionary grant programs that provide scholarships, loans, and loan repayment to students, health professionals and faculty; (2) verifies and processes loan and lender related payments in prescribed manner and maintains current information on NURSE Corps and other scholarship, loan, and loan repayment applications and awards through automated BHW information systems; (3) manages NURSE Corps scholar in-school activities; (4) facilitates NURSE Corps scholar placement, and; (5) administers grants and provides technical assistance to educational institutions and other eligible entities for the development of a diverse and culturally competent health workforce.

Division of National Health Service Corps (RQB3)

The Division of National Health Service Corps serves as the point of contact for responding to inquiries, disseminating program information, providing technical assistance, and processing applications and awards pertaining to the NHSC scholarship and loan repayment programs. Specifically: (1) Reviews, ranks, and selects participants for the scholarship and loan repayment programs; (2) verifies and processes loan and lender related payments in prescribed manner and maintains current information on scholarship and loan repayment applications and awards through automated BHW information systems; (3) manages scholar in-school activities, and; (4) administers the NHSC State Loan Repayment Program.

Division of Regional Operations (RQB4)

The Division of Regional Operations serves as the regional component of the BHW, cutting across divisions and working with the bureau programs that fund participants to serve in Health Professions Shortage Areas. Specifically, the Regional Offices support the bureau by: (1) Providing support for the recruitment and retention of primary health care providers in Health Professions Shortage Areas; (2) coordinating with state and regional level partners and stakeholders, and health professions schools in support of the BHW programs and initiatives; (3) reviewing and approving/disapproving NHSC site applications and recertification's; (4) completing NHSC site visits and providing technical assistance to sites, and; (5) managing the scholar placement process.

Chapter RV, HIV/AIDS Bureau (RV)

Section RV-20, Functions

(1) Delete the functional statement for the HIV/AIDS Bureau, Office of the Associate Administrator (RV) and replace in its entirety; (2) delete the functional statement for the HIV/AIDS Bureau, Division of HIV/AIDS Training and Capacity Development (RV7) and replace in its entirety.

Office of the Associate Administrator (RV)

The Office of the Associate Administrator provides leadership and direction for the HIV/AIDS programs and activities of the Bureau and oversees its relationship with other national health programs. Specifically: (1) Promotes the implementation of the National HIV/AIDS Strategy within the Agency and among Agency-funded programs; (2) coordinates the formulation of an overall strategy and policy for programs established by Title XXVI of the PHS Act as amended by the Ryan White HIV/AIDS Treatment Extension Act of 2009, Pub. L. 111-87; (3) coordinates the internal functions of the Bureau and its relationships with other Agency Bureaus and Offices; (4) establishes HIV/AIDS program objectives, alternatives, and policy positions consistent with broad Administration guidelines; (5) provides leadership for and oversight of the Bureau's budgetary development and implementation processes; (6) provides clinical leadership to Ryan White-funded programs and global HIV/AIDS programs; (7) oversees the implementation of the training and systems strengthening for the Global HIV/AIDS Program as part of the President's Emergency Plan for AIDS Relief; (8) serves as a principal contact and advisor to the Department and other parties on matters pertaining to the planning and development of HIV/AIDS-related health delivery systems; (9) reviews HIV/AIDS related program activities to determine their consistency with established policies; (10) develops and oversees operating policies and procedures for the Bureau; (11) oversees and directs the planning, implementation, and evaluation of special studies related to HIV/AIDS and public health within the Bureau; (12) prioritizes technical assistance needs in consultation with each division/office; (13) plans, develops, implements and evaluates the Bureau's organizational and staff development, and staff training activities inclusive of guiding action steps addressing annual Employee Viewpoint Survey results; (14) plans, implements, and evaluates the Bureau's national Technical Assistance conference calls, TARGET Web site, Webex trainings and other distance learning modalities; (15) represents the Agency in HIV/AIDS related conferences, consultations, and meetings with other Operating Divisions, Office of the Assistance Secretary for Health, the Department of State, and the White House; (16) coordinates the development and distribution of all Bureau communication activities, materials and products internally and externally; (17) provides leadership for and oversees Bureau's grants processes, and; (18) oversees Bureau Executive Secretariat functions and coordinates HRSA responses and comments on HIV/AIDS-related reports, position papers, guidance documents, correspondence, and related issues, including Freedom of Information Act requests.

Division of HIV/AIDS Training and Capacity Development (RV7)

The Division of HIV/AIDS Training and Capacity Development provides national leadership and manages the implementation of Part F under Title XXVI of the PHS Act as amended by the Ryan White HIV/AIDS Treatment Extension Act of 2009, Pub. L. 111-87 (the Ryan White HIV/AIDS Program), including the Special Projects of National Significance and the AIDS Education and Training Centers Programs. The Special Projects of National Significance Program develops innovative models of HIV care and the AIDS Education and Training Centers Program increases the number of health care providers who are educated and motivated to counsel, diagnose, treat, and medically manage people with HIV disease and to help prevent high-risk behaviors that lead to HIV transmission. The division also implements the training and systems strengthening functions of the Global HIV/AIDS Program as part of the President's Emergency Plan for AIDS Relief (PEPFAR). This includes strengthening health systems for delivery of prevention, care and treatment services for people living with HIV/AIDS in PEPFAR funded countries. The division will translate lessons learned from both the Global HIV/AIDS Programs and Special Projects of National Significance projects to the Part A, B, C, D, and F grantee community. In collaboration with the Division of Policy and Data, the division assesses effectiveness of technical assistance efforts/initiatives, identifies new technical assistance needs and priority areas, and participates in the bureau-wide technical assistance workgroup.

Section RV-30, Delegations of Authority

All delegations of authority and re-delegations of authority made to HRSA officials that were in effect immediately prior to this reorganization, and that are consistent with this reorganization, shall continue in effect pending further re-delegation.

This reorganization is effective upon date of signature.

Dated: May 27, 2014.
Mary K. Wakefield,
Administrator.

[FR Doc. 2014-12726 Filed 6-2-14; 8:45 am]

BILLING CODE 4165-15-P